DEPARTMENT OF THE INTERIOR

Bureau of Land Management

[MT-924-5870-HN]

Public Notice: Request for Nominations of Qualified Properties for Potential Purchase by the Federal Government; Montana

AGENCY: Bureau of Land Management, Interior.

ACTION: Notice.

SUMMARY: Notice is provided pursuant to Section 204 of the Federal Land Transaction Facilitation Act of 2000 (43 U.S.C. 2303) (FLTFA) of the procedures for possible acquisition of qualified properties by the Federal Government. The notice also provides information on the procedures for identifying such properties held by willing sellers and establishing a priority for the purchase of such properties.

DATES: June 14, 2006.

ADDRESSES: Nominations should be mailed to BLM Montana State Office, Attn: Dee Baxter, 5001 Southgate Drive, Billings, MT 59101-4669.

FOR FURTHER INFORMATION CONTACT: Dee Baxter, BLM Montana FLTFA Contact, at 406-896-5044, or on the internet at dbaxter@blm.gov.

SUPPLEMENTARY INFORMATION: The FLTFA provides for the deposit of proceeds from land sales or exchanges into a separate account in the Treasury of the United States, known as the Federal Land Disposal Account. From the amounts deposited, eighty percent (80%) or more of the funds must be used to acquire inholding property and lands adjacent to federally designated areas containing exceptional resources. The four land managing agencies participating in the FLTFA land acquisition program are the Bureau of Land Management (BLM), the Forest Service (FS), the National Park Service (NPS), and the Fish and Wildlife Service (FWS).

The four agencies have signed a national interagency memorandum of understanding (MOU) that describes the process for use of funds from the Federal Land Disposal Account and the acquisition of properties under the act. The Montana FLTFA Implementation Plan was completed on February 1, 2006.

Section 204 of FLTFA requires publication of a notice to the public of agency procedures to identify and prioritize inholdings to be acquired under the Act. To that end, the public is hereby notified of its opportunity to nominate qualified properties in the State of Montana for potential purchase by the Federal Government. The BLM is the lead agency for the public notice process regarding the nomination of properties for potential Federal acquisition.

Property nominated in response to this notice must meet the following criteria:

(1) The property must contain an exceptional resource, meaning a resource of scientific, natural, historic, cultural, or recreational value that has been documented by a Federal, state, or local government authority, and for which there is a compelling need for conservation and protection under the jurisdiction of a Federal agency in order to maintain the resource for the benefit of the public; and

( 2) The property must be an “inholding” or immediately adjacent to a federally designated area. An “inholding” is any right, title, or interest held by a non-Federal entity, in or to a tract of land that lies within the boundary of a federally designated area.

A federally designated area is defined as an area that has been set aside for special management, such as land within the boundary of:

(a) A national monument, an area of critical environmental concern, a national conservation area, a national riparian conservation area, a national recreation area, a national scenic area, a research natural area, a national outstanding natural area, or a national natural landmark managed by BLM; or

(b) A unit of the National Park System; or

(c) A unit of the national Wildlife Refuge System; or

(d) An area of the National Forest System designated for special management by Congress; or

(e) An area that is designated as wilderness under the Wilderness Act, a wilderness study area, a component of the Wild and Scenic Rivers System, or a component of the National Trails System.

Any individual, group, or governmental body may make a nomination of such lands that would benefit from public ownership. Nominations will only be considered if there is a willing seller, if acquisition of the nominated land or interest in land would be consistent with an agency approved land use plan, and if any public safety, hazardous contaminant or other liability, and land title issues present on the property can be mitigated.

The nominations will be assessed by the four agencies for public benefits and ranked in a priority order in accordance with the state plan. Items considered in the prioritization process include the date the inholding was established and the extent to which acquisition of the land will facilitate land management efficiency.

The identification of an inholding creates no obligation on the part of the landowner to convey the inholding or any obligation on the part of the United States to acquire the inholding. Land purchases under the act must be at fair market value consistent with applicable provisions of the Uniform Appraisal Standards for Federal Land Acquisitions. Detailed information on the MOU, the state plan, the acquisition process, and the acquisition nomination package requirements may be obtained by contacting BLM at the above address.

Dated: May 19, 2006
Howard A. Lemm,
Acting State Director.

FR Doc. E6-9258 Filed 6-13-06; 8:45 am]

BILLING CODE 4310-$$-P